DEPARTMENT OF LABOR

Bureau of Labor Statistics

Renewal of the Bureau of Labor Statistics Technical Advisory Committee

The Secretary of Labor is announcing the renewal of a Federal Advisory Committee. In accordance with the provisions of the Federal Advisory Committee Act (FACA), 5 U.S.C. App. 2, the Secretary of Labor has determined that the renewal of the Bureau of Labor Statistics Technical Advisory Committee (the “Committee”) is in the public interest in connection with the performance of duties imposed upon the Commissioner of Labor Statistics by 29 U.S.C. 1 and 2. This determination follows consultation with the Committee Management Secretariat, General Services Administration.

The Committee presents advice and makes recommendations to the Bureau of Labor Statistics (BLS) on technical aspects of the collection and formulation of economic measures.

The Committee functions solely as an advisory body to the BLS, on technical topics selected by the BLS. Important aspects of the Committee's responsibilities include, but are not limited to:

a. Provide comments on papers and presentations developed by BLS research and program staff. The comments will advise BLS as to whether the academic community will regard the work as being technically sound and reflecting best practices in the relevant fields.

b. Conduct research on issues identified by BLS on which an objective technical opinion or recommendation from outside of BLS would be valuable.

c. Recommend BLS conduct internal research projects to address technical problems with BLS statistics that have been identified in the academic literature.

d. Participate in discussions of areas where the types or coverage of economic statistics could be expanded or improved and areas where statistics are no longer relevant.

e. Establish working relationships with professional associations with an interest in BLS statistics, such as the American Statistical Association and the American Economic Association.

The Committee will report to the Commissioner of Labor Statistics.

The Committee consists of approximately sixteen members who serve as Special Government Employees. Members are appointed by the BLS and are approved by the Secretary of Labor. Committee members are economists, statisticians, and behavioral scientists and will be chosen to achieve a balanced membership across those disciplines. They are prominent experts in their fields and recognized for their professional achievements and objectivity.

The Committee will function solely as an advisory body, in compliance with the provisions of the Federal Advisory Committee Act. The Charter will be filed under the Federal Advisory Committee Act.

For Further Information Contact: Cheryl Kerr, Office of the Commissioner, Bureau of Labor Statistics, telephone: 202-691-7808, email: kerr.cheryl@bls.gov.

Signed at Washington, DC this 17th day of October 2012.
Kimberley D. Hill,
Chief, Division of Management Systems, Bureau of Labor Statistics.

[FR Doc. 2012-26006 Filed 10-22-12; 8:45 am]

BILLING CODE P